DEPARTMENT OF ENERGY

Federal Energy Regulatory Commission

[Docket No. CP20-460-000]

Northern Natural Gas Company; Notice of Schedule for Environmental Review of the Clifton to Palmyra A-Line Abandonment Project

On May 21, 2020, Northern Natural Gas Company (Northern) filed an application in Docket No. CP20-460-000 requesting abandonment authorization and a Certificate of Public Convenience and Necessity pursuant to Section 7(b) and 7(c) of the Natural Gas Act to abandon, construct, and operate certain natural gas pipeline facilities. The proposed project is known as the Clifton to Palmyra A-Line Abandonment Project (Project), and Northern states it would enhance the safety, security, and operational efficiency of its pipeline system.

On May 28, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 16, 2020

90-day Federal Authorization Decision Deadline—December 15, 2020

If a schedule change becomes necessary, additional notice will be provided so that the relevant agencies are kept informed of the Project's progress.

Project Description

Northern proposes to abandon in-place a total of approximately 115.9 miles of its M600A and M590A 24-inch-diameter pipeline and M600J 20-inch-diameter pipeline (collectively referred to as the A-line) from Clifton, Kansas to Palmyra, Nebraska. The Project is located in Clay and Washington Counties, Kansas, and Gage, Jefferson, Lancaster, and Otoe Counties, Nebraska. Northern also would increase compression capacity at its existing Beatrice Compressor Station in Gage County, Nebraska, to replace the lost capacity from the proposed abandonment.

Background

On June 9, 2020, the Commission issued a Notice of Intent to Prepare an Environmental Assessment for the Proposed Palmyra to Clifton A-line Abandonment Project and Request for Comments on Environmental Issues (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview and follow the instructions to register for eSubscription.

Additional information about the Project is available from the Commission's Office of External Affairs at (866) 208-FERC or on the FERC website (www.ferc.gov). Using the https://elibrary.ferc.gov/idmws/search/fercgensearch.asp”eLibrary link, enter the selected date range, the Docket Number excluding the last three digits (i.e., CP20-460), and follow the instructions. For assistance with access to eLibrary, the helpline can be reached at (866) 208-3676, TTY (202) 502-8659, or atFERCOnlineSupport@ferc.gov. The eLibrary link on the FERC website also provides access to the texts of formal documents issued by the Commission, such as orders, notices, and rule makings.

Dates: June 29, 2020.
Kimberly D. Bose,
Secretary.

[FR Doc. 2020-14421 Filed 7-2-20; 8:45 am]

BILLING CODE 6717-01-P